DEPARTMENT OF HOUSING AND URBAN DEVELOPMENT

[Docket No. FR-7070-N-03]

30-Day Notice of Proposed Information Collection: Lender Qualifications for Multifamily Accelerated Processing (MAP) Guide (MAP Guide, 4430.G), OMB Control No: 2502-0541

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 27, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on September 12, 2022 at 87 FR 55836.

A. Overview of Information Collection

Title of Information Collection: Lender Qualifications for Multifamily Accelerated Processing (MAP).

OMB Approval Number: 2502-0541.

OMB Expiration Date: December 31, 2023.

Type of Request: Revision of a currently approved collection.

Form Number: Guidebook 4430.G.

Description of the need for the information and proposed use: Multifamily Accelerated Processing (MAP) is designed to establish uniform national standards for Federal Housing Administration (FHA) approved lenders to prepare, process and submit loan applications for FHA multifamily mortgage insurance. The MAP Guide provides—in one volume with appendices—guidance for HUD staff, lenders, third party consultants, borrowers, and other industry participants. Topics include mortgage insurance program descriptions, borrower and lender eligibility requirements, application requirements, underwriting standards for all technical disciplines and construction loan administration requirements. The MAP Guide applies only to FHA multifamily mortgage insurance programs. Except to the extent lender monitoring or enforcement activities overlap, Section 232 and other programs administered by the Office of Healthcare Programs are not addressed by the MAP Guide.

HUD now proposes to amend the MAP Guide by deleting Appendices A.5.10 and A.5.11 and substituting therefore a new Appendix A.5.10 and renumbering the existing A.5.12 as A.5.11. The new Appendix A.5.10 describes a revised and significantly simplified and shortened methodology for calculation of the Statutory per unit maximum mortgage amount. The proposed new appendix, the deletions of the two existing appendices and the multiple conforming edits to other portions of the MAP Guide necessary to maintain consistent instruction are detailed in a proposed Mortgagee Letter 2022-##, which will be published following OMB approval of this amended collection. Soon thereafter, HUD will repost the amended MAP Guide with each of the edits completed as detailed in the Mortgagee Letter. The goal of MAP is to provide a consistent, expedited mortgage insurance application process at each HUD Multifamily Regional Center or Satellite Office. All MAP eligible projects must be submitted using MAP processing unless a waiver is granted to process under Traditional Application Processing (TAP). Such waiver approval authority is retained by HUD Headquarters' Director of Multifamily Production.

Respondents: FHA Approved MAP Lenders.

Estimated Number of Respondents: 86.

Estimated Number of Responses: 2,071.

Frequency of Response: Per each multifamily mortgage transaction.

Average Hours per Response: 24.08 hours.

Average # of Responses per Transaction: 4.93.

Total Estimated Burden: 132,172 hours for 1,114 transactions.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-01622 Filed 1-26-23; 8:45 am]

BILLING CODE 4210-67-P